DEPARTMENT OF AGRICULTURE

Forest Service

PSICC; Colorado; Upper Monument Creek EIS

AGENCY: Pike and San Isabel National Forests and Cimarron and Comanche National Grasslands, Forest Service, USDA.

ACTION: Notice of Intent to Prepare an Environmental Impact Statement.

SUMMARY: The Pike and San Isabel National Forests Cimarron and Comanche National Grasslands (PSICC) propose to conduct forest restoration activities on 25,000 acres within the 67,000 acre Upper Monument Creek (UMC) analysis area. Treatment activities include mechanical thinning, mastication, hand thinning, and prescribed fire. The treatments will be used singularly or in combination to transition forested plant communities across the landscape towards desired future conditions that are more characteristic of a resilient forest. Resilient forests are better able to respond to large high intensity wildfires, insects and disease outbreaks, and extreme water flows that are known to occur in the project's location along Colorado's Front Range. By protecting against the aforementioned extreme events, resilient forests are better equipped to protect the following identified values at risk; adjoining private property, water quality and quantity, water conveyance facilities, transportation systems, wildlife habitats, heritage sites, municipal watersheds and timber resources, Resilient forests also help attenuate the impacts of increased noxious weeds, sedimentation, and other hydrologic disturbances

In order to successfully complete the amount and types of treatments necessary for the maximum amount of resilience, the PSICC might need to amend the PSICC Land and Resource Management Plan to adjust plan standards and guidelines. Plan standards and guideline amendments might include but are not limited to the following; forest regeneration, big game winter range, wildlife habitat, and allowable levels and types of fire and fuels treatments. Proposed Land and Resource Management Plan amendments will help the PSICC achieve resiliency, and protect the values at risk within in each Land and Resource Management Plan Management Area in the Upper Monument Creek Project Area.

DATES: Comments concerning the scope of the analysis must be received by July 7, 2014. The draft environmental impact statement is expected April 2015 and the final environmental impact statement is expected August 2015.

ADDRESSES: Send written comments to Pikes Peak Ranger District, Attn: UMC Project, 601 South Weber St., Colorado Springs, CO 80903. Comments may also be sent via email to psicc_umc@fs.fed.us, or via facsimile to 719-477-4233.

FOR FURTHER INFORMATION CONTACT: Allan Hahn, District Ranger, 719-636-1602, ahahn@fs.fed.us; or Mike Picard, Team Leader, 719-530-3959, mpicard@fs.fed.us.

Individuals who use telecommunication devices for the deaf (TDD) may call the Federal Information Relay Service (FIRS) at 1-800-877-8339 between 8 a.m. and 8 p.m., Eastern Time, Monday through Friday.

SUPPLEMENTARY INFORMATION: Public meeting notices will be published in the Colorado Springs Gazette, showing locations, dates and times for each public meeting. A Web site is available for current information about the project including maps and descriptions of the planned activities. http://www.uppermonumentcreek.blogspot.com/.

Purpose and Need for Action

The size, severity, and behavior of recent wildfires on the Pike National Forest and along the Front Range have highlighted the risks posed by current forest conditions. The human and environmental costs of wildfire suppression and rehabilitation have seen a significant increase across the region in recent decades. As a result of increasing risks for large fires and extreme water flows, there is a need to make strategic investments in vegetative treatments within the UMC landscape. Strategically placed vegetative treatments reduce the vulnerability of surrounding communities, municipal watersheds, and natural resource values at risk to severe fire and excessive water flows in the future.

Proposed Action

In response to the conditions described above, the proposed action is to effectively treat up to 25,000 acres within the 67,000 acre analysis area. Combinations of mechanical thinning with product removal, mastication, hand thinning, and prescribed fire will be used to shift forest conditions across the analysis area towards agreed upon desired conditions. Emphasis will be on retention of older trees in all forest types, opening up densely closed stands of mid to late seral classes, creating a more open forest environment and improving shrub and grass diversity. The forest ecosystems that will be the primary targets for treatments will be the ponderosa pine, dry mixed conifer, aspen, and mesic mixed conifer, with some treatments in lodgepole and oak/ponderosa types. Vegetative treatments will balance the need to protect important values at risk within and adjoing the project area. Values at risk include but are not limited to the following; private property, utility infrastructure, wildlife habitat and fully functioning rivers and streams.

The Proposed Action includes the use of adaptive management principals to enable land managers with public participation to identify management treatments that modify forest structure, pattern, and composition across the landscape to help improve forest resiliency and function in response to the potential for large, high intensity fires and excessive water flows within the Upper Monument Project Area. Adaptive management relies on monitoring change conditions and the result of actions to determine if management changes are needed, and if so, what changes and to what degree.

Possible Alternatives

In this EIS we will use the Iterative Alternative Process, to make changes to that action to keep it viable and responsive to our analysis, and to public comments. We will conclude the analysis with one alternative. The final alternative will reflect the USFS accepted proposed changes from internal Forest Service specialist analysis and external public comments.

Responsible Official

The Responsible Official for this decision will be the PSICC Forest Supervisor.

Nature of Decision To Be Made

This decision will include the type of treatments expected to achieve our objectives, the locations of treatments, the monitoring methods to be used, and the adaptive management strategy that will provide direction for making future adjustments to this decision. This decision will only cover actions within the Upper Monument Creek analysis area.

Preliminary Issues

A primary concern for management of this area is the resiliency of the various forest types, and their resistance to large, high intensity wildfires, and extreme water flows. Maintaining vegetative cover across the landscape will help to minimize the risks to municipal and domestic water sources and other resource values within the project area.

Scoping Process

This notice of intent initiates the scoping process, which guides the development of the environmental impact statement. There will be public meetings held in several municipalities during this scoping period. Each of those meetings will be announced in the Colorado Springs Gazette with the location, date, and time included. Comments can also be made through email to the contacts listed above. A Web site is also available for conveying information and submitting comments. http://www.uppermonumentcreek.blogspot.com/

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: May 15, 2014.
Erin Connelly,
Forest and Grassland Supervisor.

[FR Doc. 2014-11847 Filed 5-21-14; 8:45 am]

BILLING CODE 3410-11-P